DEPARTMENT OF THE TREASURY

Submission for OMB Review; Comment Request

October 18, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 26, 2001 to be assured of consideration.

Bureau of Alcohol, Tobacco and Firearms

OMB Number: 1512-0083.

Form Number: ATF F 1582-B (5130.6).

Type of Review: Extension.

Title: Drawback on Beer Exported.

Description: When taxpaid beer is removed from a brewery and ultimately exported, the brewer exporting the beer is eligible for a drawback (refund) of Federal taxes paid. By completing this form and submitting documentation of exportation, the brewer may receive a refund of Federal taxes paid.

Respondents: Business or other for-profit.

Estimated Number of Respondents: 100.

Estimated Burden Hours Per Respondent: 1 hour.

Frequency of Response: On occasion.

Estimated Total Recordkeeping Burden: 5,000 hours.

OMB Number: 1512-0164.

Form Number: ATF F 3069 (5200.7).

Type of Review: Extension.

Title: Schedule of Tobacco Products, Cigarette Papers or Tubes Withdrawn from the Market.

Description: ATF F3069 (5200.7) is used by persons who intend to withdraw tobacco products from the market for which the taxes has already been paid or determined. The form describe the products that are to be withdrawn to determine the amount of tax to be claimed later as a tax credit or refund. The form notifies ATF when withdrawal or destruction is to tax place, and ATF may elect to supervise withdrawal or destruction.

Respondents: Business or other for-profit.

Estimated Number of Respondents: 119.

Estimated Burden Hours Per Respondent: 45 minutes.

Frequency of Response: On occasion.

Estimated Total Reporting Burden: 1,071 hours.

OMB Number: 1512-0543.

Form Number: ATF F 5300.11A.

Type of Review: Extension.

Title: Annual Firearms Manufacturing and Exportation Report of Semiautomatic Assault Weapons.

Description: The purpose for which the information is collected includes witness qualifications, congressional investigations, court decisions and disclosure, furnishing information to other Federal agencies and compliance inspections. The form will capture information on semiautomatic assault weapons that is not currently capture on ATF F 5300.11.

Respondents: Business or other for-profit, Federal Government, State, Local or Tribal Government.

Estimated Number of Respondents: 1,556.

Estimated Burden Hours Per Respondent: 6 minutes.

Frequency of Response: Annually.

Estimated Total Reporting Burden: 156 hours.

Clearance Officer: Frank Bowers (202) 927-8930, Bureau of Alcohol, Tobacco and Firearms, Room 3200, 650 Massachusetts Avenue, NW., Washington, DC 20226

OMB Reviewer: Alexander T. Hunt (202) 395-7860, Office of Management and Budget, Room 10202, New Executive Office Building, Washington, DC 20503

Mary A. Able,
Departmental Reports, Management Officer.

[FR Doc. 01-26903 Filed 10-24-01; 8:45 am]

BILLING CODE 4810-31-P